NUCLEAR REGULATORY COMMISSION

10 CFR Parts 20, 30, 31, 32, 33, and 35

Expanded Definition of Byproduct Material (NARM Rulemaking), Availability of Web Page

AGENCY: Nuclear Regulatory Commission.

ACTION: Notice of availability.

SUMMARY: The Nuclear Regulatory Commission (NRC) has crafted a Web page for the rulemaking titled “Expanded Definition of Byproduct Material,” also known as the “NARM rulemaking.” The Energy Policy Act of 2005 requires the NRC to establish a regulatory framework for the expanded definition of byproduct material to include certain naturally occurring and accelerator-produced radioactive material through rulemaking. Documents in support of this rulemaking will be posted on the Web page via the NRC's rulemaking Web site at http://ruleforum.llnl.gov as they become publicly available.

DATES: The NRC is not soliciting comments at this time; however, NRC will request formal public comments when a notice of proposed rulemaking is published in the Federal Register.

ADDRESSES: Documents related to the NARM rulemaking may be examined at the NRC Public Document Room, located at One White Flint North, 11555 Rockville Pike, Rockville, MD 20852. They may also be viewed and downloaded electronically from the “Expanded Definition of Byproduct Material (NARM Rulemaking)” Web page via the rulemaking Web site http://ruleforum.llnl.gov and selecting “Other Rulemaking-Related Comment Requests” from the selection menu. For information about the interactive rulemaking Web site, contact Ms. Carol Gallagher (301) 415-5905; e-mail CAG@nrc.gov.

FOR FURTHER INFORMATION CONTACT: Ms. Jayne M. McCausland, Office of Nuclear Material Safety and Safeguards, U.S. Nuclear Regulatory Commission, Washington, DC 20555-0001, telephone (301) 415-6219, e-mail jmm2@nrc.gov. For questions related to the NARM rulemaking, contact Ms. Lydia Chang, Office of Nuclear Material Safety and Safeguards, U.S. Nuclear Regulatory Commission, Washington, DC 20555-0001, telephone (301) 415-6319, e-mail lwc1@nrc.gov.

SUPPLEMENTARY INFORMATION: Section 651(e) of the Energy Policy Act of 2005 (the Act) expanded the definition of Byproduct material in section 11e. of the Atomic Energy Act of 1954, to include certain naturally occurring and accelerator-produced radioactive material (NARM). The Act also required the NRC to provide a regulatory framework for licensing and regulating the additional byproduct material. The NRC is developing a rulemaking to revise its regulations to expand the definition of Byproduct material to include the following materials produced, extracted, or converted after extraction for use for a commercial, medical, or research activity:

(1) Any discrete source of radium-226;

(2) Any accelerator-produced radioactive material; and

(3) Any discrete source of naturally occurring radioactive material, other than source material, that the Commission, in consultation with the Administrator of the Environmental Protection Agency, the Secretary of Energy, the Secretary of Homeland Security, and the head of any other appropriate Federal agency, determines would pose a threat to public health and safety or the common defense and security similar to the threat posed by a discrete source of radium-226.

To aid the rulemaking process, NRC held a roundtable public meeting on November 9, 2005, to solicit input from stakeholders on the NARM rulemaking. Participants for the roundtable public meeting included representatives from other Federal agencies, State governments, the medical community, professional organizations, public interest groups, and members of the general public. The transcripts from the November 9, 2005, public meeting and a meeting summary have been posted on the NARM rulemaking Web page with other supporting documents. Additional documents may be added as they become publicly available, including the draft proposed rule. The Web page can be accessed via NRC's rulemaking Web site at http://ruleforum.llnl.gov under “Other Rulemaking-Related Comment Requests” selection menu. The specific link to the NARM rulemaking Web page is http://ruleforum.llnl.gov/cgi-bin/rulemake?source=narm&st=ipcr. Once the proposed rule is published in the Federal Register, the NARM rulemaking Web page would still be accessed at http://ruleforum.llnl.gov but relocated under “Proposed Rules” selection menu.

Dated at Rockville, Maryland, this 21st day of December, 2005.
For the Nuclear Regulatory Commission.
Scott W. Moore,
Chief, Rulemaking and Guidance Branch, Division of Industrial and Medical Nuclear Safety, Office of Nuclear Material Safety and Safeguards.

[FR Doc. E5-8218 Filed 12-30-05; 8:45 am]

BILLING CODE 7590-01-P